DEPARTMENT OF HOMELAND SECURITY

Coast Guard

33 CFR Part 165

[Docket No. USCG-2019-0744]

Safety Zone; 2019 Fleet Week Fireworks Display, San Francisco Bay, San Francisco, CA

AGENCY: Coast Guard, DHS.

ACTION: Notice of enforcement of regulation.

SUMMARY: The Coast Guard will enforce the safety zone for the 2019 Fleet Week Fireworks Display in the Captain of the Port, San Francisco area of responsibility during the dates and times noted below. This action is necessary to protect life and property of the maritime public from the hazards associated with the fireworks display. During the enforcement period, unauthorized persons or vessels are prohibited from entering into, transiting through, or anchoring in the safety zone, unless authorized by the Patrol Commander (PATCOM) or other federal, state, or local law enforcement agencies on scene to assist the Coast Guard in enforcing the regulated area.

DATES: The regulation in 33 CFR 165.1191, Table 1, Item number 21, will be enforced from 11 a.m. on October 12, 2019 through 9:40 p.m. on October 12, 2019, or as announced via Broadcast Notice to Mariners.

FOR FURTHER INFORMATION CONTACT: If you have questions on this notice, call or email Lieutenant Jennae Cotton, Waterways Management, U.S. Coast Guard Sector San Francisco; telephone (415) 399-3585, email SFWaterways@uscg.mil.

SUPPLEMENTARY INFORMATION: The Coast Guard will enforce the safety zone established in 33 CFR 165.1191 Table 1, Item number 21 for the 2019 Fleet Week Fireworks Display from 11 a.m. on October 12, 2019 until 9:40 p.m. on October 12, 2019, or as announced via Broadcast Notice to Mariners. The 2019 Fleet Week Fireworks Display will commence at approximately 9 p.m. on October 12, 2019. This notice is issued under authority of 46 U.S.C. 70034, 70051; 33 CFR 1.05-1, 6.04-1, 6.04-6, and 160.5; Department of Homeland Security Delegation No. 0170.1.

The safety zone will extend to all navigable waters of the San Francisco Bay, from surface to bottom, within a circle formed by connecting all points 100 feet out from the fireworks barge during the loading, transit, and arrival of the fireworks barge from the loading location to the display location and until the start of the fireworks display. From 11 a.m. on October 12, 2019 until 5 p.m. on October 12, 2019, the fireworks barge will be loading pyrotechnics from Pier 50 in San Francisco, CA. The fireworks barge will remain at the loading location until its transit to the display location. From 7:30 p.m. to 8 p.m. on October 12, 2019 the loaded fireworks barge will transit from Pier 50 to the launch site near Pier 3 in approximate position 37°48′01″ N, 122°23′27″ W (NAD 83) where it will remain until the conclusion of the fireworks display. Upon the commencement of the 10-minute fireworks display, scheduled to begin at approximately 9 p.m. on October 12, 2019, the safety zone will increase in size and encompass all navigable waters of San Francisco Bay, from surface to bottom, within a circle formed by connecting all points 1,000 feet out from the fireworks barge near Pier 3 in approximate position 37°48′01″ N, 122°23′27″ W (NAD 83). This safety zone will terminate at 9:40 p.m. on October 12, 2019, or as announced via Broadcast Notice to Mariners.

In addition to this notice in the Federal Register, the Coast Guard plans to provide notification of the safety zone and its enforcement period via the Local Notice to Mariners.

Under the provisions of 33 CFR 165.1191, unauthorized persons or vessels are prohibited from entering into, transiting through, or anchoring in the safety zone during all applicable effective dates and times, unless authorized to do so by the PATCOM or other Official Patrol, which is defined as a federal, state, or local law enforcement agency on scene to assist the Coast Guard in enforcing the regulated area. Additionally, each person who receives notice of a lawful order or direction issued by the PATCOM or Official Patrol shall obey the order or direction. The PATCOM or Official Patrol may, upon request, allow the transit of commercial vessels through regulated areas when it is safe to do so.

If the Captain of the Port determines that the regulated area need not be enforced for the full duration stated in this notice, a Broadcast Notice to Mariners may be used to grant general permission to enter the regulated area.

Dated: September 30, 2019.
Howard H. Wright,
Captain, U.S. Coast Guard, Alternate Captain of the Port, San Francisco.

[FR Doc. 2019-21764 Filed 10-8-19; 8:45 am]

BILLING CODE 9110-04-P